NUCLEAR REGULATORY COMMISSION

Sunshine Act Meeting

Agency Holding the Meeting: Nuclear Regulatory Commission.

Date: Weeks of September 18, 25, October 2, 9, 16, and 23, 2000.

Place: Commissioner's Conference Room, 11555 Rockville Pike, Rockville, Maryland.

Status: Public and Closed.

Matters To Be Considered

Week of September 18

There are no meetings scheduled for the Week of September 18.

Week of September 25—Tentative

Friday, September 29

9:25 a.m. Affirmation Session (Public Meeting) (If needed)

9:30 a.m. Briefing on Risk-Informing Special Treatment Requirements (Public Meeting) (Contact: Tim Reed, 301-415-1462)

This meeting will be webcast live at the Web address— www.nrc.gov/live.html.

1:30 p.m. Briefing on Threat Environment Assessment (Closed-Ex. 1)

Week of October 2—Tentative

Friday, October 6

9:25 a.m. Affirmation Session (Public Meeting) (If needed)

9:30 a.m. Meeting with ACRS (Public Meeting) (Contact: John Larkins, 301-415-7360)

Week of October 9—Tentative

There are no meetings scheduled for the Week of October 9.

Week of October 16—Tentative

Tuesday, October 17

9:25 a.m. Affirmation Session (Public Meeting) (If needed)

Week of October 23—Tentative

Monday, October 23

1:55 p.m. Affirmation Session (Public Meeting) (If needed)

*The schedule for Commission meetings is subject to change on short notice. To verify the status of meetings call (recording)—(301) 415-1292. Contact person for more information: Bill Hill (301) 415-1661.

* * * * *

Note: “Final Rules—10 CFR Part 35, ‘Medical Use of Byproduct Material’ and 10 CFR Part 20, ‘Standards for Protection Against Radiation’ ” were not affirmed on Wednesday, September 13, as previously scheduled. They will be rescheduled for affirmation at a later date.

* * * * *

Additional Information

By a vote of 5-0 on September 13, the Commission determined pursuant to U.S.C. 552b(e) and § 9.107(a) of the Commission's rules that “Affirmation of Final Rule: ‘Adjustment of Civil Monetary Penalties’; Proposed Revision to the Enforcement Policy to Conform to the Final Rule Adjusting Civil Monetary Penalties and Minor Administrative Changes to Parts 1 and 13” be held on September 13, and on less than one week's notice to the public.

By a vote of 5-0 on September 13, the Commission determined pursuant to U.S.C. 552b(e) and § 9.107(a) of the Commission's rules that “Affirmation of NORTHEAST NUCLEAR ENERGY CO. Indirect License Transfer of Millstone Licenses; Petition to Intervene” be held on September 13, and on less than one week's notice to the public.

By a vote of 5-0 on September 13, the Commission determined pursuant to U.S.C. 552b(e) and § 9.107(a) of the Commission's rules that “Affirmation of NORTHERN STATES POWER COMPANY (Monticello Nuclear Generating Plant; Prairie Island Nuclear Generating Plant, Units 1 and 2; and Prairie Island Independent Spent Fuel Storage Installation); Docket Nos. 50-263-LT, 50-282-LT, 50-306-LT, and 70-10-LT; Petitioners' Aug. 15, 2000 Motion for Reconsideration of CLI-00-14 (issued Aug. 1, 2000).” be held on September 13, and on less than one week's notice to the public.

* * * * *

The NRC Commission Meeting Schedule can be found on the Internet at:

http://www.nrc.gov/SECY/smj/schedule.htm

* * * * *

This notice is distributed by mail to several hundred subscribers; if you no longer wish to receive it, or would like to be added to it, please contact the Office of the Secretary, Attn: Operations Branch, Washington, D.C. 20555 (301-415-1661). In addition, distribution of this meeting notice over the Internet system is available. If you are interested in receiving this Commission meeting schedule electronically, please send an electronic message to wmh@nrc.gov or dkw@nrc.gov.

Dated: September 15, 2000.
William M. Hill, Jr.,
SECY Tracking Officer, Office of the Secretary.

[FR Doc. 00-24362 Filed 9-18-00; 5:07 pm]

BILLING CODE 7590-01-M